DEPARTMENT OF ENERGY

Federal Energy Regulatory Commission

Combined Notice of Filings #3

Take notice that the Commission received the following exempt wholesale generator filings:

Docket Numbers: EG25-160-000.

Applicants: Roaring Springs Solar, LLC.

Description: Roaring Springs Solar, LLC submits Notice of Self-Certification of Exempt Wholesale Generator Status.

Filed Date: 2/18/25.

Accession Number: 20250218-5182.

Comment Date: 5 p.m. ET 3/11/25.

Take notice that the Commission received the following electric rate filings:

Docket Numbers: ER22-1539-003.

Applicants: NRG Power Marketing LLC.

Description: Compliance filing: NRG Business Marketing LLC submits tariff filing per 35: Compliance Filing of Tariff Records to Implement Settlement Rates to be effective 6/1/2022.

Filed Date: 2/18/25.

Accession Number: 20250218-5267.

Comment Date: 5 p.m. ET 3/11/25.

Docket Numbers: ER23-2688-004.

Applicants: NRG Business Marketing LLC.

Description: Compliance filing: Compliance Filing of Tariff Records to Implement Settlement Rates to be effective 8/1/2023.

Filed Date: 2/18/25.

Accession Number: 20250218-5284.

Comment Date: 5 p.m. ET 3/11/25.

Docket Numbers: ER24-1658-003.

Applicants: Southwest Power Pool, Inc.

Description: Compliance filing: Compliance Filing—Submission of Tariff to Establish Markets+ to be effective 12/31/9998.

Filed Date: 2/18/25.

Accession Number: 20250218-5159.

Comment Date: 5 p.m. ET 3/11/25.

Docket Numbers: ER25-1332-000.

Applicants: PJM Interconnection, L.L.C.

Description: § 205(d) Rate Filing: Original GIA and CSA, SA Nos. 7552 and 7553; Project Identifier No. AG1-363 to be effective 1/19/2025.

Filed Date: 2/18/25.

Accession Number: 20250218-5183.

Comment Date: 5 p.m. ET 3/11/25.

Docket Numbers: ER25-1333-000.

Applicants: Arizona Public Service Company.

Description: § 205(d) Rate Filing: Rate Schedule No. 217, Exhibit A Revisions to be effective 4/20/2025.

Filed Date: 2/18/25.

Accession Number: 20250218-5193.

Comment Date: 5 p.m. ET 3/11/25.

Docket Numbers: ER25-1334-000.

Applicants: Midcontinent Independent System Operator, Inc., American Transmission Company LLC.

Description: § 205(d) Rate Filing: American Transmission Company LLC submits tariff filing per 35.13(a)(2)(iii: 2025-02-18_SA 4451 ATC-Wisconsin Electric Power (Granite) PCA to be effective 4/20/2025.

Filed Date: 2/18/25.

Accession Number: 20250218-5215.

Comment Date: 5 p.m. ET 3/11/25.

Docket Numbers: ER25-1335-000.

Applicants: Elwood Energy LLC.

Description: § 205(d) Rate Filing: Proposed Revisions to Reactive Service Rate Schedule and Req. for Limited Waiver to be effective 12/31/9998.

Filed Date: 2/18/25.

Accession Number: 20250218-5224.

Comment Date: 5 p.m. ET 3/11/25.

Docket Numbers: ER25-1336-000.

Applicants: PJM Interconnection, L.L.C.

Description: § 205(d) Rate Filing: Original GIA Service Agreement No. 7542; Project Identifier No. AG1-415 to be effective 1/19/2025.

Filed Date: 2/18/25.

Accession Number: 20250218-5251.

Comment Date: 5 p.m. ET 3/11/25.

Docket Numbers: ER25-1337-000.

Applicants: NRG Business Marketing LLC, NRG Power Marketing LLC.

Description: Compliance filing: NRG Business Marketing LLC submits tariff filing per 35: Compliance Filing of Tariff Records to Implement Settlement Rates to be effective 7/31/2023.

Filed Date: 2/18/25.

Accession Number: 20250218-5285.

Comment Date: 5 p.m. ET 3/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 18, 2025.
Carlos D. Clay,
Deputy Secretary.

[FR Doc. 2025-03017 Filed 2-24-25; 8:45 am]

BILLING CODE 6717-01-P